DEPARTMENT OF COMMERCE

National Oceanic and Atmospheric Administration

Proposed Information Collection; Comment Request; Northeast Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 14, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Lindsey Feldman, (978) 675-2179 or Lindsey.Feldman@noaa.gov.

SUPPLEMENTARY INFORMATION:

I. Abstract

This request is for revision and extension of a current information collection. Under the Magnuson-Stevens Fishery Conservation and Management Act, the Secretary of Commerce (Secretary) has the responsibility for the conservation and management of marine fishery resources. Much of this responsibility has been delegated to the National Oceanic and Atmospheric Administration (NOAA)/National Marine Fisheries Service (NMFS). Under this stewardship role, the Secretary was given certain regulatory authorities to ensure the most beneficial uses of these resources. One of the regulatory steps taken to carry out the conservation and management objectives is to collect information from users of the resource.

As regional Fishery Management Councils develop specific Fishery Management Plans (FMP), the Secretary has promulgated rules for the issuance of permits to individuals and organizations participating in Federally controlled fisheries in order to: (1) Register fishermen, fishing vessels, fish dealers and processors, (2) List the characteristics of fishing vessels and/or dealer/processor operations, (3) Exercise influence over compliance (e.g. withhold issuance pending collection of unpaid penalties), (4) Provide a mailing list and email list for the dissemination of important information to the industry, (5) Register participants to be considered for limited entry, and (6) Provide a universe for data collection samples. Identification of the participants, their gear types, vessels, and expected activity levels is an effective tool in the enforcement of fishery regulations.

Limited access fishing permits, where entry is reviewed during a one-time application period, place size, tonnage, and horsepower restrictions on the ability of a vessel owner to upgrade or replace their vessel. If a vessel owner wishes to upgrade any of the specifications of his/her vessel such as length overall, net tonnage, gross tonnage, horsepower, or vessel fish hold capacity, he/she must submit, in writing, a request for a vessel upgrade. A request, in writing, also must be made in order to replace one limited access permitted vessel with another as vessel size restrictions are limited to 10-percent above the baseline length overall, gross, and net tonnage, 20-percent above the baseline horsepower, and 10-percent above the vessel hold capacity measurement for limited access vessels with Tier 1 or 2 Atlantic mackerel permits.

Vessels with particular permits are also required to use an electronic vessel monitoring system (VMS) to declare their intent to fish before starting a particular trip, change their intent to fish during a trip, and to report real-time catch and discard information. While vessels are also required to report catch information weekly or monthly depending on their permit through vessel trip reports (VTRs)(VTR collection approved in OMB Control No. 0648-0212), it is often necessary to have daily catch reporting in order to have a real-time understanding of the operation of the fishery. Real-time catch reporting is especially important for high volume fisheries, where large amounts of fish are landed in short periods of time, so that the fishery can be shut down when approaching the annual, regional, or seasonal quota.

This collection also includes the requirement of participants in certain fisheries to notify NMFS before fishing trips for the purpose of observer placement. The placement of fisheries observers is critical to accurately monitoring and collecting information on fish catch, discards, gear performance, socio-economic information about vessel crew and operations, etc. Vessels are also required to request, in writing, participation in any of the various exemption programs offered in the Northeast region. Exemption programs may allow a vessel to fish in an area that is limited to vessels of a particular size, using a certain gear type, or fishing for a particular species. Vessels are also required to request gillnet and lobster tags through the Northeast region permit office when using gillnet gear or lobster traps. Lastly, vessel owners that own multiple vessels, but would like to request communication from NMFS be consolidated into one mailing (and not separate mailings for each vessel), may request the single letter vessel owner option to improve efficiency of their business practice.

This revision/extension removes the expedited submission of proposed special access programs (SAPs), days-at-sea (DAS) transfer program requirements, and Northwest Atlantic Fisheries Organization (NAFO) reporting requirements to avoid duplication, as this information has been moved to another collection (OMB Control No. 0648-0605).

II. Method of Collection

Vessel Permits

All vessel permit applications including initial permit applications for vessels and dealers, vessel and dealer renewal applications, vessel operator permit applications, gillnet and lobster trap tag purchase are submitted by signed paper form sent in the mail.

VMS Requirements

Vessels with VMS requirements are required to declare their intent to fish (i.e. declare into the fishery) and submit daily catch reports using electronic VMS units on board the vessel. VMS power down exemption requests are submitted by signed paper form.

Observer Program Call-In Requirements

Vessels issued certain permits such as NE multispecies, monkfish, scallop, and Atlantic herring permits are required to give advance notification to the Northeast Fisheries Observer Program (NEFOP) before the start of a trip in order to receive a fisheries observer or a waiver. Vessels use an online pre-trip notification system, email, toll-free call in number, or a local phone number to comply with this requirement.

Exempted Fisheries Programs

Vessels that would like to request participation in one or more of the NE fisheries exemption programs must either submit a request electronically using their VMS unit, by declaring into an exempted fishery prior to the start of a trip, or by mailing in a written request to participate in the program(s) of interest.

Vessel Owner Single Letter Option

Vessel owners that own multiple vessels, but would like to receive only a single NE Fisheries Bulletin or small entity compliance guide instead of one for each vessel permit, must submit a request, in writing, to NMFS to participate in this program.

III. Data

OMB Control Number: 0648-0202.

Form Number: None.

Type of Review: Regular submission (revision and extension of a current information collection).

Affected Public: Businesses or other for-profit organizations; Individuals or households, state, local or tribal government, and Federal Government.

Estimated Number of Respondents: 62,295.

Estimated Time Per Response:

Vessel Permits

Vessel permit application: 45 minutes; Vessel permit renewal forms: 30 minutes; Initial dealer permit applications: 15 minutes; Dealer permit renewal forms: 5 minutes; Initial and renewal vessel operator permit applications: 1 hour; Obtaining and submitting a dealer or vessel owner email address: 5 minutes; Limited access vessel upgrade or replacement applications: 3 hours; and Applications for retention of limited access permit history: 30 minutes.

VMS Requirements

Installing a VMS unit: 1 hour; Confirming VMS connectivity: 5 minutes; VMS certification form: 5 minutes; VMS installation for Canadian herring transport vessels: 1 hour and 20 minutes; Email to declare their entrance and departure from U.S. waters: 15 minutes; Automatic polling of vessel position using the VMS unit: 0 minutes; Area and DAS declarations: 5 minutes; Declaration of days-out of the gillnet fishery for monkfish and NE multispecies vessels: 3 minutes; Departure and landing notification for monkfish and occasional sea scallop vessels using the Interactive Voice Response (IVR) system: 2 minutes; Good Samaritan DAS credit request: 30 minutes; Entangled whale DAS credit request: 30 minutes; DAS credit for a canceled trip due to unforeseen circumstances, but have not yet begun fishing: 5 minutes to request via the VMS unit and 10 minutes to request via the paper form; VMS catch reports for trips in NE multispecies broad stock areas: 15 minutes; All other NE multispecies VMS reporting requirements, such as U.S. Canada Area, Closed Area II Special Access Programs, etc: 15 minutes; VMS catch reports by Atlantic herring vessels: 7 minutes, VMS power down exemption: 30 minutes.

Observer Program Call-In Requirements

Requests for observer coverage are estimated to require either 2 or 10 minutes per request, depending on the program for which observers are requested.

Exempted Fisheries Programs

Letter of Authorization (LOA) to participate in any of the exemption programs: 5 minutes; Charter/Party Exemption Certificate for GOM Closed Areas: 2 minutes; Limited access sea scallop vessels state waters DAS exemption program or state waters gear exemption program: 2 minutes; Withdraw from either state waters exemption program prior to the end of the 7-day designated exemption period requirement: 2 minutes; Request for change in permit category designation: 5 minutes; Request for transit to another port by a vessel required to remain within the GOM cod trip limit: 2 minutes; Gillnet category designation, including initial requests for gillnet tags: 10 minutes; Requests for additional tags: 2 minutes; Notification of lost tags and requests for replacement tag numbers: 2 minutes; Attachment of gillnet tags: 1 minute; Initial lobster area designations: 5 minutes; Requests for additional tags: 2 minutes; and notification of lost tags: 3 minutes; Requests for state quota transfers in the bluefish, summer flounder and scup fisheries: 1 hour; GOM cod trip limit exemption: 5 minutes; Vessel owner single letter option: 5 minutes.

Estimated Total Annual Burden Hours: 28,748.

Estimated Total Annual Cost to Public: $5,828,067 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 8, 2012.
Gwellnar Banks,
Management Analyst, Office of the Chief Information Officer.

[FR Doc. 2012-27596 Filed 11-13-12; 8:45 am]

BILLING CODE 3510-22-P